DEPARTMENT OF THE INTERIOR

National Park Service

[NPS-PWR-PWRO-23152; PPPWGOGAP0 PPMPSAS1Z.YP0000]

Final Environmental Impact Statement for Vista Grande Drainage Basin Improvement Project, Golden Gate National Recreation Area, San Francisco and San Mateo Counties, California

AGENCY: National Park Service, Interior.

ACTION: Notice of availability.

SUMMARY: The National Park Service (NPS) announces the availability of the Final Environmental Impact Statement (Final EIS) for the proposed Vista Grande Drainage Basin Project (Project), prepared in cooperation with the City of Daly City (Daly City). The Final EIS incorporates the Final Environmental Impact Report (EIR) prepared by Daly City. Daly City is seeking a Special Use Permit from the NPS for construction activities proposed at Fort Funston, a possible Right of Way approval for outfall-related infrastructure on the beach below Fort Funston, and modernization of an existing easement to clarify the rights and obligations of the parties with regard to proposed structures within Fort Funston.

DATES: The NPS will execute a Record of Decision no sooner than 30 days after the date of publication by the Environmental Protection Agency (EPA) of the notice of filing and availability of the Final EIS in the Federal Register.

FOR FURTHER INFORMATION CONTACT: Please contact Steve Ortega at the Golden Gate National Recreation Area (GGNRA) Planning Division at (415) 561-4930 or goga_planning@nps.gov.

ADDRESSES: An electronic copy of the Final EIS is available on the project Web site (http://parkplanning.nps.gov/Vista_Grande). A limited number of printed copies of the Final EIS are available for public inspection, and may be requested by contacting the GGNRA Planning Division as noted above.

SUPPLEMENTARY INFORMATION: The purpose and need for the Project is to alleviate flooding in the Vista Grande Drainage Basin and Canal and provide a sustainable source of water for management of Lake Merced water levels and quality, and to ensure that the portion of the Project within federally managed lands, if authorized, is constructed, operated, and maintained in a manner that is consistent with the protection and enhancement of resources, values, and uses of lands and waters under federal jurisdiction. NPS's objectives for the Project include the following: (1) Avoid, minimize, or mitigate environmental impacts to Park natural and cultural resources; (2) during construction, ensure the health and safety of park visitors and staff, maintain access to and through Fort Funston, and minimize impacts to the visitor experience; (3) permanently improve public access along the beach; and (4) minimize impacts on park assets and sustain or restore all park assets (e.g., facilities, features, grounds) to pre-construction or better conditions.

Range of Alternatives: The Project would address storm-related flooding in the Vista Grande Drainage Basin, while providing the additional benefit of augmenting the level of Lake Merced. The project would also improve recreational access and reduce litter transfer and deposition along the beach below Fort Funston and maximize the use of existing rights-of-way, easements, and infrastructure to minimize construction-related costs, habitat disturbance, and disruption to recreational users. The Final EIS describes and analyzes the following four alternatives:

No Project/No Action Alternative would result in no construction of the physical components of the proposed Project, and none of the proposed operational changes to stormwater routing or Lake Merced water management would be made. The NPS would not grant the Special Use Permit or amend the existing easement, and no construction could occur within NPS-managed lands. Annual Canal sediment removal activities would continue, as well as as-needed maintenance activities. Because Canal and Tunnel capacity would not be improved, occasional flooding of the Canal and associated flooding of John Muir Drive into Lake Merced and in local neighborhoods would continue. This alternative serves as the environmental baseline from which potential effects of the “action” alternatives were compared.

Proposed Project, identified as the NPS preferred alternative, would consist of the following: (1) Improvements within the Vista Grande Basin storm drain system upstream of the Vista Grande Canal; (2) Partial replacement of the existing Vista Grande Canal to incorporate a gross solid screening device, an approximately 2.6-acre constructed treatment wetland, and diversion and discharge structures to route some stormwater (and authorized non-stormwater) flows from the Vista Grande Canal to Lake Merced and to allow lake water to be used for summer treatment wetland maintenance; (3) Modification of the existing effluent gravity pipeline so that it may be used year round to convey treated effluent from the nearby North San Mateo County Sanitation District Wastewater Treatment Plant to the existing outlet and diffuser by gravity, and abandoning the force main pipeline; (4) Modification of the existing lake overflow structure to include an adjustable weir and siphon that allows water from the lake to flow into the Canal and Tunnel; (5) Replacement of the existing Vista Grande Tunnel to expand its hydraulic capacity and extend its operating lifetime and replacement of the Lake Merced Portal to the Tunnel; and (6) Replacement of the existing Ocean Outlet structure and a portion of the existing 33-inch submarine outfall pipeline that crosses the beach at Fort Funston.

Tunnel Alignment Alternative would include the construction of a replacement tunnel south of the existing Tunnel. The new tunnel would run from a new east portal at the Canal to a new or rehabilitated Ocean Outlet structure at Fort Funston. The Tunnel would run beneath the Olympic Club, Highway 35, and the GGNRA lands. This alternative could be paired with either the proposed Canal improvements or the Canal Configuration Alternative.

Canal Configuration Alternative would not construct the box culvert replacing the first 1,500 feet of the Canal; rather, the diversion structure described for the proposed Project would be relocated to the southern (upstream) end of the Canal. The box culvert under John Muir Drive also would be relocated and would cross under John Muir Drive close to the southern end of Impound Lake. The design of the diversion structure, box culvert under John Muir Drive, and Lake Merced Outlet would be approximately the same as for the proposed Project, but located at the upstream (southern) end of the Canal. The diversion structure would replace the first approximately 350 feet of the Canal, and the rest of the Canal would be unchanged except as needed for temporary construction access to the Lake Merced Tunnel Portal. Under the Canal Configuration Alternative, only one wetland cell of approximately 1.7 acres would be constructed. This alternative could be paired with either the proposed Tunnel improvements or the Tunnel Alignment Alternative.

The EPA notice of filing and availability of the Draft EIS was published on April 29, 2016, which opened the 60 day public review and comment period. The draft document was posted online at http://parkplanning.nps.gov/Vista_Grande, and printed copies were available on request. Daly City conducted one public meeting in Daly City on May 26, 2016. Following a review of agency and public comments on the Draft EIS, the NPS and Daly City prepared written responses to substantive comments relevant to the National Environmental Policy Act (NEPA) and California Environmental Quality Act (CEQA) review of the Project. Responses to comments are provided in Chapter 3 of the Final EIS. Staff-initiated revisions to the text of the Draft EIS as well as revisions made in response to pertinent comments are provided in Chapter 4 of the Final EIS.

The NPS will execute a Record of Decision no sooner than 30 days following EPA's notice published in the Federal Register announcing filing and release of the Final EIS. The official responsible for approval of the Vista Grande Drainage Basin Improvement Project is the Regional Director of the Pacific West Region, and subsequently the General Superintendent, GGNRA, will be responsible for NPS implementation.

Authority: 42 U.S.C. 4321 et seq.

Dated: July 25, 2017.
Martha J. Lee,
Acting Regional Director, Pacific West Region.

[FR Doc. 2017-19085 Filed 9-8-17; 8:45 am]

BILLING CODE 4312-52-P